DEPARTMENT OF HOMELAND SECURITY

Coast Guard

33 CFR Part 165

[Docket No. USCG-2022-0260]

Safety Zone; Tonawanda's Canal Fest Fireworks

AGENCY: Coast Guard, DHS.

ACTION: Notification of enforcement of regulation.

SUMMARY: The Coast Guard will enforce a safety zone for the Tonawanda's Canal Fest Fireworks on July 24, 2022, to provide for the safety of life on navigable waterways during this display. Our regulation for limited access areas within the Captain of the Port Buffalo Zone identifies the regulated area for this event in Tonawanda, NY. During the enforcement periods, the operator of any vessel in the regulated area must comply with directions from the Safety Zone Coordinator or any Official Patrol displaying a Coast Guard ensign.

DATES: The regulations in 33 CFR 165.939 as listed in Table 165.939 will be enforced from 9:15 p.m. to 10:15 p.m. on July 24, 2022.

FOR FURTHER INFORMATION CONTACT: If you have questions about this notification of enforcement, contact LT Justin Miller, Chief of Waterways Management, Sector Buffalo, U.S. Coast Guard; telephone 716-843-9391, email D09-SMB-SECBuffalo-WWM@uscg.mil.

SUPPLEMENTARY INFORMATION: The Coast Guard will enforce the Safety Zones; Annual Events in the Captain of the Port Buffalo Zone listed in the table to 33 CFR 165.939 for the following events:

i. Tonawanda's Canal Fest Fireworks, Tonawanda, NY; The safety zone listed in Table 165.939 as (b)(26) will be enforced on all waters of East Niagara River, Tonawanda, NY within a 210-foot radius of position 43°01′17.8″ N, 078°52′40.9″ W, from 9:15 p.m. through 10:15 p.m. on July 24, 2022.

Pursuant to 33 CFR 165.23, entry into, transiting, or anchoring within these safety zones during an enforcement period is prohibited unless authorized by the Captain of the Port Buffalo or his designated representative; designation need not be in writing. Those seeking permission to enter these safety zones may request permission from the Captain of the Port Buffalo via channel 16, VHF-FM. Vessels and persons granted permission to enter the safety zone shall obey the directions of the Captain of the Port Buffalo or his designated representative. While within a safety zone, all vessels shall operate at the minimum speed necessary to maintain a safe course.

In addition to this notice of enforcement in the Federal Register, the Coast Guard will provide the maritime community with advance notification of the enforcement periods via Broadcast Notice to Mariners or other suitable means. If the Captain of the Port Buffalo determines that the safety zone need not be enforced for the full duration stated in this notice, he may use a Broadcast Notice to Mariners to grant general permission to enter the respective safety zone. This notice is issued under the authority of 5 U.S.C. 552(a).

Dated: July 11, 2022.
M.I. Kuperman,
Captain, U.S. Coast Guard, Captain of the Port Buffalo.

[FR Doc. 2022-15337 Filed 7-18-22; 8:45 am]

BILLING CODE 9110-04-P